ENVIRONMENTAL PROTECTION AGENCY

[EPA-HQ-OPPT-2008-0317; FRL-8361-7]

Security and Prosperity Partnership; Notice of Public Meeting

AGENCY: Environmental Protection Agency (EPA).

ACTION: Notice.

SUMMARY: EPA will be holding a public meeting to encourage input from stakeholders regarding approaches to ensuring success in meeting 2012 Security and Prosperity Partnership (SPP) goals to assess and initiate action, if necessary, on thousands of high (HPV) and moderate production volume (MPV) chemicals, to engage stakeholders on the concept of developing and implementing a HPV Challenge-type program for “inorganic” HPV chemicals, and on options for means to potentially reset the Toxic Substances Control Act (TSCA) Inventory. Additional information on these Chemical Assessment and Management Program (ChAMP) efforts can be found on the Office of Pollution Prevention and Toxics homepage, http://www.epa.gov/oppt, and on the new ChAMP website, http://www.epa.gov/champ. The purpose of this public meeting will be to further discussion and development of these initiatives.

DATES: The meeting will be held on May 2, 2008, from 1:30 p.m. to 4:30 p.m.

Requests to participate in the meeting must be received on or before April 28, 2008.

To request accommodation of a disability, please contact the technical person listed under FOR FURTHER INFORMATON CONTACT, preferably at least 10 days prior to the meeting, to give EPA as much time as possible to process your request.

ADDRESSES: The meeting will be held in the EPA East, Conference Room 1153, 1201 Constitution Ave., NW., Washington, DC.

Requests to participate in the meeting and requests for accommodation of a disability, identified by docket identification (ID) number EPA-HQ-OPPT-2008-0317, may be submitted to the technical person listed under FOR FURTHER INFORMATION CONTACT.

FOR FURTHER INFORMATION CONTACT: For general information contact: Colby Lintner, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Pam Buster, Environmental Assistance Division (7408M), Office of Pollution Prevention and Toxics, Environmental Protection Agency, 1200 Pennsylvania Ave., NW., Washington, DC 20460-0001; telephone number: (202) 564-8817; e-mail address: buster.pamela@epa.gov.

SUPPLEMENTARY INFORMATION:

I. General Information

A. Does this Action Apply to Me?

You may be potentially affected by this action if you manufacture, import, process, or use chemical substances subject to TSCA. Potentially affected entities may include, but are not limited to chemical manufacturers, e.g., persons manufacturing, importing, processing, or using chemicals for commercial purposes. Since other entities may also be interested, the Agency has not attempted to describe all the specific entities that may have an interest in this matter. If you have any questions regarding the applicability of this action to a particular entity, consult the technical person listed under FOR FURTHER INFORMATION CONTACT.

B. How Can I Get Copies of this Document and Other Related Information?

1. Docket. EPA has established a docket for this action under docket ID number EPA-HQ-OPPT-2008-0317. All documents in the docket are listed in the docket's index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

2. Electronic access. You may access this Federal Register document electronically through the EPA Internet under the “Federal Register” listings at http://www.epa.gov/fedrgstr.

II. Background

A. What are SPP and ChAMP?

SPP unites the efforts of Canada, Mexico, and the United States in an initiative that is committed to accelerating and strengthening the national and regional risk-based assessment and management of chemicals. This effort is pursuant to a commitment made by President Bush, Canadian Prime Minister Stephen Harper, and Mexican President Felipe Calderon in Montebello, Quebec, in August 2007. SPP builds on current work underway in the United States and Canada and will complement North American efforts under the Commission on Environmental Cooperation’s Sound Management of Chemicals project.

The SPP initiative includes a number of regional and national commitments. The partners will share scientific information, technical understanding, best practices, and risk management approaches, and will better coordinate research on new approaches to chemical testing and assessment. When EPA announced the SPP commitment, it stated its intention to obtain stakeholder input and the public meeting meets that goal in part. ChAMP is the name given by EPA to its efforts to meet the SPP commitment to complete initial assessments and take action, if necessary, on thousands of chemicals produced above 25,000 lbs/year. This commitment includes both HPV and MPV chemicals, builds on the U.S. HPV Challenge Program and Canada’s work on chemical categorization and may also include two new initiatives discussed below.

B. What Action is the Agency Taking?

In accordance with U.S. SPP commitments, by 2012, EPA under ChAMP will assess and initiate action, if necessary, on the over 6,750 existing chemicals produced above 25,000 lbs/year in this country. These efforts will position the United States to take action to ensure that these chemicals are produced and used in ways that do not present unacceptable risks to health and the environment. The approximately 6,750 chemicals encompassed by the SPP commitment and ChAMP include 2,750 organic HPV chemicals produced at or above 1 million lbs/year. In assessing these chemicals, the Agency will prepare screening-level characterizations of hazard, exposure, and risk, and will use those characterizations to develop an initial risk-based prioritization (RBP). HPV Challenge submissions will generally provide the base hazard data used in the hazard characterizations, while the 2006 Inventory Update Reporting (IUR) will provide the bulk of the use and exposure information used in the exposure characterizations. These screening-level hazard and exposure characterizations will be combined to develop screening-level risk characterizations, which summarize EPA’s current thinking regarding the potential risks of HPV chemicals or categories. Together, these characterization documents will support an initial RBP identifying the relative priorities of these chemicals and informing risk management options. More detail on the RBP process, including characterization and prioritization documents, can be found at http://www.epa.gov/CHAMP by following the RBP links.

In addition to the 2,750 organic HPV chemicals, the United States committed under SPP to assess and initiate action, if necessary, on an additional 4,000 organic MPV chemicals. MPV chemicals are produced at or greater than 25,000 lbs/year but at less than 1 million lbs/year. The Agency generally does not have the same degree of hazard and exposure data on these chemicals, therefore, the assessment scheme will differ from that applied to the HPV chemicals. For MPV chemicals, EPA intends to develop health and environmental hazard and environmental fate characterizations using available data, Canadian categorization results, EPA Structure Activity Relationship (SAR) analysis input, and knowledge gained under the HPV Challenge Program, including on categories of chemicals. The hazard and fate characterizations will be used to support development of hazard based prioritizations to identify MPV chemicals that may need follow-up (e.g., hazard/fate testing, exposure information, risk management, etc.). As with HPV chemicals, the Agency envisions employing both voluntary and regulatory actions for MPV chemicals.

As mentioned in this unit, ChAMP may include two new initiatives identified by EPA. The first of these concerns approximately 750 inorganic HPV chemicals, which were first reported under the 2006 IUR cycle. Recognizing the value of the original HPV Challenge Program published in the Federal Register issue of December 26, 2000 (65 FR 81686) (FRL-6754-6) in making available to EPA and the public basic screening level data on many organic HPV chemicals, EPA believes there is value in extending the approach to inorganic HPV chemicals. Several domestic and international activities provide a starting point for development of an Inorganics High Production Volume (IHPV) Challenge Program in the near future. The Agency is considering applying the general approach used in the HPV Challenge Program (sponsorship commitments, development of test plans, public review step, completion of data package, and submission to EPA) as well as the inorganics guidance developed by the Organization for Economic Cooperation and Development (OECD) for use in its HPV Program. Additional information on OECD’s guidance on inorganics can be found at: http://www.oecd.org/document/7/0,3343,en_2649_34379_1947463_1_1_1_1,00.html.

It is anticipated that an IHPV Challenge Program, if started in 2008, could be completed by approximately 2011-2012. The 2011 IUR reporting cycle will include exposure/use data for inorganic HPV chemicals which would allow for EPA to consider both hazard and exposure elements and develop RBPs for these chemicals. An assessment approach similar to that for organic MPV chemicals could be applied to inorganic medium production volume (IMPV) chemicals at a later date.

The second new initiative concerns an effort to potentially “reset” the TSCA Inventory. The original TSCA Inventory was compiled in 1979 consisting of 62,000 chemicals. Since then approximately 21,000 new chemicals have been added to the TSCA Inventory. Under TSCA section 8(b), EPA is required to “compile, keep current, and publish a list of each chemical substance which is manufactured or processed in the United States.” Pursuant to this authority, and in an effort to better understand the universe of chemicals actually in commerce at present, EPA is considering an effort to reset the TSCA Inventory. While there are a number of issues and questions that would need to be resolved if EPA does move forward with this effort it necessarily will need to obtain information on currently manufactured and/or imported chemicals. Additional information on ChAMP and EPA’s current thinking can be found at: http://www.epa.gov/CHAMP.

C. Why is EPA Taking This Action?

EPA believes that ChAMP provides a sound basis for realizing further progress by EPA on assessing and managing chemicals. The SPP effort has great potential to achieve greater public health and environmental protection by promoting a more integrated approach to chemicals assessment and management in North America. By sharing information and the assessment burden North America will be able to more quickly, efficiently, and cost-effectively determine the need for, and possibly take, risk management actions on a greater number of chemicals. Work done by the U.S. to meet its 2012 SPP commitment represents an important contribution to this effort and to meeting U.S. domestic chemical assessment and management needs. The two new initiatives being considered complement and strengthen ChAMP by expanding EPA’s efforts to include inorganic HPV chemicals and an effort focused on resetting the TSCA Inventory.

III. How Can I Request to Participate in this Meeting?

You may submit a request to participate in this meeting to the technical person listed under FOR FURTHER INFORMATION CONTACT. Do not submit any information in your request that is considered CBI. Requests to participate in the meeting, identified by docket ID number EPA-HQ-OPPT-2008-0317, must be received on or before April 28, 2008.

List of Subjects

Environmental protection, Chemicals, European Union, Hazardous chemicals, High Production Volume (HPV) chemicals, Medium Production Volume (MPV) chemicals, TSCA Inventory.

Dated: April 11, 2008.
Wendy C. Hamnett,
Acting Director, Office Pollution Prevention and Toxics.

[FR Doc. E8-8329 Filed 4-16-08; 8:45 am]

BILLING CODE 6560-50-S